DEPARTMENT OF COMMERCE

National Oceanic and Atmospheric Administration

RIN 0648-XD249

Fisheries of the Exclusive Economic Zone Off Alaska; At-Sea Scales Requirements

AGENCY: National Marine Fisheries Service (NMFS), National Oceanic and Atmospheric Administration (NOAA), Commerce.

ACTION: Notice of public workshop.

SUMMARY: NMFS announces a workshop to solicit input from owners and operators of catcher/processor vessels (C/Ps) and motherships that are required to weigh catch at sea. The workshop concerns proposed changes to equipment and operational requirements for motion compensating scales that weigh catch at sea. These proposed changes would affect the owners and operators of three groups of vessels: trawl C/Ps and motherships permitted to fish for or to receive pollock in the Bering Sea and Aleutian Islands (BSAI) under the (American Fisheries Act) AFA; trawl C/Ps permitted to fish for groundfish under Amendment 80 to the Fishery Management Plan for Groundfish of the BSAI or rockfish in the Central Gulf of Alaska; and longline C/Ps with a license limitation program license endorsed for C/P operations that fish for Pacific cod using hook-and-line gear in the Bering Sea or Aleutian Islands areas. The workshop will be divided into three sections, and each section will focus on how the proposed changes will affect the three groups of vessels described above. The workshop is open to the public, but NMFS is specifically requesting those who are knowledgeable about the operations of the three groups of vessels (described above) to attend.

DATES: The public workshop will be held on Friday, May 16, 2014. The workshop will be divided into three sessions: AFA trawl C/Ps and motherships, 9 a.m. to 10:30 a.m. Pacific daylight savings time; Amendment 80 and Central GOA trawl C/Ps, 11 a.m. to 12:30 p.m. Pacific daylight savings time; and Pacific cod longline C/Ps, 1 p.m. to 2:30 p.m. Pacific daylight savings time.

ADDRESSES: The workshop will be held at the International Pacific Halibut Commission (IPHC) Seattle Office, 2320 West Commodore Way, Suite 300, Seattle, WA. Directions to the IPHC are on its Web site at http://www.iphc.int/component/content/article/135-new-office.html.

FOR FURTHER INFORMATION CONTACT: Alan Kinsolving, 928-774-4362 or Jennifer Watson, 907-586-7537.

SUPPLEMENTARY INFORMATION: NMFS is developing proposed revisions to the at-sea scales program for C/Ps and motherships that are required to weigh catch at sea. NMFS is considering three major changes to current regulations. First, NMFS is proposing to change regulations concerning daily scale testing and require electronic reporting of daily scale test results. Second, scales used to weigh catch would need electronics capable of logging and printing the frequency and magnitude of scale calibrations as well as the time and date of each scale fault and scale startup. Finally, NMFS is proposing to require that the area around the scale be monitored using video. These changes are being proposed to reduce the possibility of scale tampering, to improve the accuracy of catch estimation by the C/P and mothership sector, and to revise technical regulations that are no longer applicable.

The workshop—to be held Friday, May 16, 2014 (see DATES section for the specific times of the three sessions)—is open to the public, but NMFS is particularly seeking participation by those who are knowledgeable about the operations of the three groups of vessels described above and who can discuss with NMFS the potential operational impacts of proposed monitoring requirements.

Special Accommodations

The workshop will be physically accessible to people with disabilities. Requests for sign language interpretation or other auxiliary aids should be directed to Jennifer Watson, 907-586-7537, at least 10 working days prior to the meeting date.

Dated: April 24, 2014.
Emily H. Menashes,
Acting Director, Office of Sustainable Fisheries, National Marine Fisheries Service.

[FR Doc. 2014-09732 Filed 4-28-14; 8:45 am]

BILLING CODE 3510-22-P